DEPARTMENT OF EDUCATION

State Fiscal Stabilization Fund Program

AGENCY: Office of Elementary and Secondary Education, Department of Education.

ACTION: Notice announcing application deadline.

Catalog of Federal Domestic Assistance (CFDA) Numbers: 84.394 and 84.397.

SUMMARY: Under the State Fiscal Stabilization Fund (Stabilization) program, authorized in Title XIV of the American Recovery and Reinvestment Act of 2009 (ARRA), Public Law 111-5, the U.S. Department of Education (Department) awards grants on a formula basis to Governors to help stabilize State and local government budgets in order to minimize and avoid reductions in education and other essential public services. The Department is awarding Stabilization funds in two phases. In Phase 1, the Department will award 67 percent of the total funds available to a State, unless the State can demonstrate that additional funds are required to restore fiscal year 2009 State support for education. In that case, the Department will award up to 90 percent of its total allocation in Phase 1. The Department will award the remaining portion of a State's allocation in Phase 2. In this notice, we establish the deadline by which a Governor must submit the State's application for Phase 1 funding under the Stabilization program.

Application Deadline: July 1, 2009, 4:30:00 p.m. Washington, DC time.

Governors must submit an application electronically by the deadline in this notice. If a Governor fails to submit the State's application by this deadline, the State will not receive any Phase 1 or Phase 2 Stabilization funds.

SUPPLEMENTARY INFORMATION: There are two components of the Stabilization program: the Education Stabilization Fund (CFDA No. 84.394) and the Government Services Fund (CFDA No. 84.397). By statute, the Department will award 81.8 percent of a State's total Stabilization allocation under the Education Stabilization Fund and the remaining 18.2 percent of its allocation under the Government Services Fund. Governors will apply for funding for each component under a single application. The application is available on the Department's Web site at http://www.ed.gov/programs/statestabilization/applicant.html.

If a Governor does not submit the State's application for Phase 1 funding by the deadline in this notice, the Department will allocate the funds that were reserved for the State to those States that have submitted timely applications. A State that fails to submit an application by the deadline in this notice will not receive any Phase 1 or Phase 2 Stabilization funds.

Electronic Submission of Applications: A Governor must submit an electronic version of his/her State's application in .PDF (Portable Document) format to Stabilizationfundapplication@ed.gov by July 1, 2009, 4:30:00 p.m., Washington, DC time. A Governor also must mail the original and two copies of the application to: Dr. Joseph C. Conaty, Director, Academic Improvement and Teacher, Quality Programs, Office of Elementary and Secondary Education, U.S. Department of Education, 400 Maryland Avenue, SW., Room 3E314, Washington, DC 20202.

FOR FURTHER INFORMATION CONTACT: Mr. James Butler, U.S. Department of Education, 400 Maryland Avenue, SW., Room 3E108, Washington, DC 20202. Telephone: (202) 260-9737 or via e-mail: state.fiscal.fund@ed.gov.

If you use a telecommunications device for the deaf (TDD), call the Federal Relay Service (FRS) at 1-800-877-8339.

Individuals with disabilities can obtain this notice in an accessible format (e.g., braille, large print, audiotape, or computer diskette) on request to the contact person listed under FOR FURTHER INFORMATION CONTACT.

Electronic Access To This Document: You can view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO Access at: http://www.gpoaccess.gov/nara/index.html.

Program Authority: Title XIV, Division A, American Recovery and Reinvestment Act of 2009, Public Law 111-5.

Delegation of Authority: The Secretary of Education has delegated to Joseph C. Conaty, Director, Academic Improvement and Teacher Quality Programs for the Office of Elementary and Secondary Education, the authority to perform the functions of the Assistant Secretary for Elementary and Secondary Education.

Dated: May 8, 2009.
Joseph C. Conaty,
Director, Academic Improvement and Teacher Quality Programs.

[FR Doc. E9-11200 Filed 5-12-09; 8:45 am]

BILLING CODE 4000-01-P